DEPARTMENT OF HEALTH AND HUMAN SERVICES

Centers for Disease Control and Prevention

Mine Safety and Health Research Advisory Committee

In accordance with section 10(a)(2) of the Federal Advisory Committee Act (Pub. L. 92-463), the Centers for Disease Control and Prevention (CDC) announces the following committee meeting.

Name: Mine Safety and Health Research Advisory Committee (MSHRAC).

Times and Dates: 8:30 a.m.-5 p.m., May 20, 2004. 8:30 a.m.-11:30 a.m., May 21, 2004.

Place: The Holiday Inn on The Hill, 415 New Jersey Avenue, NW., Washington, DC, 20001, telephone (202)638-1616, fax (202) 347-1813.

Status: Open to the public, limited only by the space available. The meeting room accommodates approximately 40 people.

Purpose: This committee is charged with providing advice to the Secretary, Department of Health and Human Services; the Director, CDC; and the Director, NIOSH, on priorities in mine safety and health research, including grants and contracts for such research, 30 U.S.C. 812(b)(2), Section 102(b)(2).

Matters To Be Discussed: Agenda for this meeting will focus on reports from the Director, NIOSH and Associate Director for Mining, regarding research plans for powered haulage, diesel controls and retrofitting engineering noise controls, mine fires and explosions, various reports and plans for the mining industry health and safety.

Agenda items are subject to change as priorities dictate.

FOR FURTHER INFORMATION CONTACT: Lewis V. Wade, Ph.D., Executive Secretary, MSHRAC, NIOSH, CDC, 200 Independence Avenue, SW., Room 715-H, Hubert Humphrey Building, P12 Washington, DC 20201-004, telephone (202) 401-2192, fax (202) 260-4464.

The Director, Management Analysis and Services Office, has been delegated the authority to sign Federal Register notices pertaining to announcements of meetings and other committee management activities for both CDC and the Agency for Toxic Substances and Disease Registry.

Dated: April 12, 2004.
Joseph E. Salter,
Acting Director, Management Analysis and Services Office, Centers for Disease Control and Prevention.

[FR Doc. 04-8640 Filed 4-15-04; 8:45 am]

BILLING CODE 4163-19-P